DEPARTMENT OF THE INTERIOR

National Park Service

[NPS-WASO-NAGPRA-13660; PPWOCRADN0-PCU00RP14.R50000]

Notice of Inventory Completion: St. Joseph County Sheriff's Department, Centreville, MI

AGENCY: National Park Service, Interior.

ACTION: Notice.

SUMMARY: The St. Joseph County Sheriff's Department has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the St. Joseph County Sheriff's Department. If no additional requestors come forward, transfer of control of the human remains to the Indian tribes or Native Hawaiian organizations stated in this notice may proceed.

DATES: Representatives of any Indian tribe or Native Hawaiian organization not identified in this notice that wish to request transfer of control of these human remains should submit a written request with information in support of the request to the St. Joseph County Sheriff's Department at the address in this notice by September 16, 2013.

ADDRESSES: Undersheriff Mark Lillywhite, St. Joseph County Sheriff's Department, 650 East Main Street, Centreville, MI 49032, telephone (269) 467-9045.

SUPPLEMENTARY INFORMATION: Notice is here given in accordance with the Native American Graves Protection and Repatriation Act (NAGPRA), 25 U.S.C. 3003, of the completion of an inventory of human remains under the control of the St. Joseph County Sheriff's Department. The human remains were removed from Section 27, Leonidas Township, St. Joseph County, MI.

This notice is published as part of the National Park Service's administrative responsibilities under NAGPRA, 25 U.S.C. 3003(d)(3) and 43 CFR 10.11(d). The determinations in this notice are the sole responsibility of the museum, institution, or Federal agency that has control of the Native American human remains The National Park Service is not responsible for the determinations in this notice.

Consultation

A detailed assessment of the human remains was made by the Michigan State University Forensic Anthropology Department professional staff on behalf of the St. Joseph County Sheriff's Department with representatives of the Nottawaseppi Huron Band of the Potawatomi, Michigan (previously listed as the Huron Potawatomi, Inc.).

History and Description of the Remains

In December 1970, human remains representing, at minimum, one individual were removed from Section 27, Leonidas Township, in St. Joseph County, MI. The remains were transferred to the Michigan State University Forensic Anthropology Department where they were identified and transferred back to the St. Joseph County Sheriff's Department on June 26, 2013. The human remains were identified as a 30-40 year old Native American female from a pre-20th century population. No known individual was identified. No associated funerary objects are present.

Determinations Made by the St. Joseph County Sheriff's Department

Officials of the St. Joseph County Sheriff's Department have determined that:

• Pursuant to 25 U.S.C. 3001(9), the human remains described in this notice are Native American based on evaluation by the Michigan State University Forensic Anthropology Department.

• Pursuant to 25 U.S.C. 3001(9), the human remains described in this notice represent the physical remains of one individual of Native American ancestry.

• Pursuant to 25 U.S.C. 3001(2), a relationship of shared group identity cannot be reasonably traced between the Native American human remains and any present-day Indian tribe.

• Pursuant to 25 U.S.C. 3001(15), the land from which the Native American human remains were removed is the near the tribal land of the Nottawaseppi Huron Band of the Potawatomi, Michigan (previously listed as the Huron Potawatomi, Inc.).

• Pursuant to 43 CFR 10.11(c)(1), the disposition of the human remains may be to the Nottawaseppi Huron Band of the Potawatomi, Michigan (previously listed as the Huron Potawatomi, Inc.).

Additional Requestors and Disposition

Representatives of any Indian tribe or Native Hawaiian organization not identified in this notice that wish to request transfer of control of these human remains should submit a written request with information in support of the request to Undersheriff Mark Lilywhite, St. Joseph County Sheriff's Department, 650 East Main Street, Centreville, MI 49032, telephone (269) 467-9045, by September 16, 2013. After that date, if no additional requestors have come forward, transfer of control of the human remains to the Nottawaseppi Huron Band of the Potawatomi, Michigan (previously listed as the Huron Potawatomi, Inc.) may proceed.

The St. Joseph County Sheriff's Department is responsible for notifying the Nottawaseppi Huron Band of the Potawatomi, Michigan (previously listed as the Huron Potawatomi, Inc.) that this notice has been published.

Dated: July 30, 2013.
Sherry Hutt,
Manager, National NAGPRA Program.

[FR Doc. 2013-20001 Filed 8-15-13; 8:45 am]

BILLING CODE 4312-50-P